DEPARTMENT OF COMMERCE

International Trade Administration

[A-570-890]

Wooden Bedroom Furniture From the People's Republic of China: Preliminary Results of Antidumping Duty Administrative Review; 2017

AGENCY: Enforcement and Compliance, International Trade Administration, Department of Commerce.

SUMMARY: The Department of Commerce (Commerce) preliminarily determines that eight companies, including the mandatory respondent, Decca Furniture Ltd. (Decca), have not established their entitlement to a separate rate and are part of the China-wide entity, and that five companies had no reviewable transactions during the January 1, 2017, through December 31, 2017, period of review (POR). We invite interested parties to comment on these preliminary results.

DATES: Applicable December 12, 2018.

FOR FURTHER INFORMATION CONTACT: Patrick O'Connor, AD/CVD Operations, Office IV, Enforcement and Compliance, International Trade Administration, Department of Commerce, 1401 Constitution Avenue NW, Washington, DC 20230; telephone: (202) 482-0989.

SUPPLEMENTARY INFORMATION:

Background

After initiating this review with respect to 73 companies or company groupings,¹ interested parties withdrew all review requests for 60 of the 73 companies. Thus, Commerce rescinded this review with respect to those companies.² On June 20, 2018, Commerce issued an antidumping duty questionnaire to Decca, the only company under review that filed a separate rate application. Decca did not respond to the questionnaire. For a complete description of the events that followed the initiation of this administrative review, see the Preliminary Decision Memorandum which is hereby adopted by this notice.³

¹ See Initiation of Antidumping and Countervailing Duty Administrative Reviews, 83 FR 11685 (March 16, 2018) (Initiation Notice).

² See Wooden Bedroom Furniture from the People's Republic of China: Notice of Partial Rescission of Antidumping Duty Administrative Review, 83 FR 45607 (September 10, 2018).

³ See “Decision Memorandum for the Preliminary Results of the Antidumping Duty Administrative Review: Wooden Bedroom Furniture from the People's Republic of China,” from James Maeder, Senior Director, performing the duties of Deputy Assistant Secretary for Antidumping Duty and Countervailing Duty Operations, to Gary Taverman, Deputy Assistant Secretary for Antidumping and Countervailing Duty Operations, performing the non-exclusive functions and duties of the Assistant Secretary for Enforcement and Compliance (Preliminary Decision Memorandum), dated concurrently with this notice.

The Preliminary Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Preliminary Decision Memorandum can be accessed directly at http://enforcement.trade.gov/frn/. The signed Preliminary Decision Memorandum and the electronic version of the Preliminary Decision Memorandum are identical in content.

Scope of the Order

The product covered by the Order is wooden bedroom furniture, subject to certain exceptions.⁴ Imports of subject merchandise are classified under the Harmonized Tariff Schedule of the United States (HTSUS) subheadings: 9403.90.7005, 9403.90.7080, 9403.50.9041, 9403.60.8081, 9403.20.0018, 9403.90.8041, 7009.92.1000 or 7009.92.5000. Although the HTSUS subheadings are provided for convenience and customs purposes, the written product description in the Order remains dispositive.⁵

⁴ See Notice of Amended Final Determination of Sales at Less Than Fair Value and Antidumping Duty Order: Wooden Bedroom Furniture from the People's Republic of China, 70 FR 329 (January 4, 2005) (Order).

⁵ For a complete description of the scope of the Order, please see the Preliminary Decision Memorandum.

Methodology

Commerce is conducting this review in accordance with section 751(a)(1)(B) of the Tariff Act of 1930, as amended (the Act) and 19 CFR 351.213. For a full description of the methodology underlying our preliminary results of review, see the Preliminary Decision Memorandum. A list of topics discussed in the Preliminary Decision Memorandum is provided in the Appendix to this notice.

Preliminary Determination of No Shipments

Because U.S. Customs and Border Protection (CBP) did not provide any information contradicting the claims of five of the companies under review which claimed to have made no shipments, Commerce preliminarily determines that these five companies did not have any reviewable transactions during the POR.⁶ For additional information regarding this determination, see the Preliminary Decision Memorandum. Consistent with Commerce's practice in non-market economy (NME) cases, Commerce is not rescinding this AR, in part, with respect to these five companies, but intends to complete the review with respect to the companies for which it has preliminarily found no shipments and issue appropriate instructions to CBP based on the final results of the review.⁷

⁶ The five companies/company groupings are: (1) Dongguan Sunrise Furniture Co., Ltd., Taicang Sunrise Wood Industry Co., Ltd., Taicang Fairmount Designs Furniture Co., Ltd., Meizhou Sunrise Furniture Co., Ltd.; (2) Dongguan Sunrise Furniture Co., Taicang Sunrise Wood Industry Co., Ltd., Shanghai Sunrise Furniture Co. Ltd., Fairmont Designs; (3) Eurosa (Kunshan) Co., Ltd., Eurosa Furniture Co., (PTE) Ltd.; (4) Shenyang Shining Dongxing Furniture Co., Ltd. (Shenyang Shining); and (5) Yeh Brothers World Trade Inc.

⁷ See Non-Market Economy Antidumping Proceedings: Assessment of Antidumping Duties, 76 FR 65694, 65694-95 (October 24, 2011) and the “Assessment Rates” section, below.

Separate Rates

Decca was the only company under review that submitted a separate rate application, and Commerce issued the antidumping duty questionnaire to Decca as the sole mandatory respondent. However, as noted above, Decca did not respond to Commerce's antidumping duty questionnaire. Therefore, Commerce preliminarily determines that Decca did not establish its eligibility for separate rate status. In addition, seven other companies for which a review was requested failed to provide separate rate applications or certifications.⁸ Therefore, Commerce preliminarily determines that these eight companies are part of the China-wide entity. Because no party requested a review of the China-wide entity, the entity is not under review, and the entity's dumping margin of 216.01 percent is not subject to change.⁹ For additional information regarding this determination, see the Preliminary Decision Memorandum.

⁸ The seven companies are: (1) Dongguan Kingstone Furniture Co., Ltd.; Kingstone Furniture Co., Ltd.; (2) Kunshan Summit Furniture Co., Ltd.; (3) Qingdao Liangmu Co., Ltd.; (4) Restonic (Dongguan) Furniture Ltd.; Restonic Far East (Samoa) Ltd.; (5) Rizhao Sanmu Woodworking Co., Ltd.; (6) Techniwood Industries Ltd.; Ningbo Furniture Industries Ltd.; Ningbo Hengrun Furniture Co., Ltd.; and (7) Zhangjiagang Zheng Yan Decoration Co., Ltd.

⁹ See Second Amended Final Results of Antidumping Duty Administrative Review: Wooden Bedroom Furniture from the People's Republic of China, 72 FR 62834 (November 7, 2007).

Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

Any interested party may request a hearing within 30 days of publication of this notice.¹⁰ Hearing requests should contain the following information: (1) The party's name, address, and telephone number; (2) the number of participants; and (3) a list of the issues to be discussed. Oral presentations at the hearing will be limited to issues raised in the case briefs. If a request for a hearing is made, parties will be notified of the time and date of the hearing to be held at the U.S. Department of Commerce, 1401 Constitution Avenue NW, Washington, DC 20230.¹¹

¹⁰ See 19 CFR 351.310(c).

¹¹ See 19 CFR 351.310(d).

Unless extended, Commerce intends to issue the final results of this AR, which will include the results of its analysis of issues raised in any briefs received, within 120 days of publication of these preliminary results, pursuant to section 751(a)(3)(A) of the Act.

Assessment Rates

Upon issuing the final results of this review, Commerce will determine, and CBP shall assess, antidumping duties on all appropriate entries covered by this review.¹² Commerce intends to issue assessment instructions to CBP 15 days after the publication date of the final results of this review. We intend to instruct CBP to liquidate entries of subject merchandise exported by the China-wide entity, including Decca and the other seven companies noted above which did not qualify for separate rate status, at the China-wide rate. Additionally, pursuant to Commerce's practice in NME cases, if we continue to determine that the five companies noted above had no shipments of subject merchandise, any suspended entries of subject merchandise during the POR under their case numbers will be liquidated at the China-wide rate.¹³

¹² See 19 CFR 351.212(b).

¹³ For a full discussion of this practice, see Non-Market Economy Antidumping Proceedings: Assessment of Antidumping Duties, 76 FR 65694 (October 24, 2011).

Cash Deposit Requirements

The following cash deposit requirements will be effective upon publication of the final results of this review for shipments of subject merchandise from China entered, or withdrawn from warehouse, for consumption on or after the publication date, as provided by sections 751(a)(2)(C) of the Act: (1) For previously investigated or reviewed China and non-China exporters that received a separate rate in a prior segment of this proceeding, the cash deposit rate will continue to be the existing exporter-specific rate; (2) for all Chinese exporters of subject merchandise that have not been found to be entitled to a separate rate, the cash deposit rate will be the rate for the China-wide entity, which is 216.01 percent; and (3) for all non-China exporters of subject merchandise which have not received their own rate, the cash deposit rate will be the rate applicable to the China exporter that supplied that non-China exporter.

These deposit requirements, when imposed, shall remain in effect until further notice.

Notification To Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification To Interested Parties

We are issuing and publishing these results in accordance with sections 751(a)(1) and 777(i)(1) of the Act and 19 CFR 351.221.(b)(4).

Dated: December 3, 2018.
Gary Taverman,
Deputy Assistant Secretary for Antidumping and Countervailing Duty Operations, performing the non-exclusive functions and duties of the Assistant Secretary for Enforcement and Compliance.

Appendix

List of Topics Discussed in the Preliminary Decision Memorandum

(1) Summary

(2) Background

(3) Scope of the Order

(4) Discussion of the Methodology

a. NME Country Status

b. Separate Rates

c. Preliminary Determination of No Shipments

(5) Conclusion

[FR Doc. 2018-26870 Filed 12-11-18; 8:45 am]

BILLING CODE 3510-DS-P